COMMITTEE FOR PURCHASE FROM PEOPLE WHO ARE BLIND OR SEVERELY DISABLED

Procurement List; Additions and Deletions

AGENCY: Committee for Purchase from People Who Are Blind or Severely Disabled.

ACTION: Additions to and deletions from Procurement List.

SUMMARY: This action adds to the Procurement List products and services to be furnished by nonprofit agencies employing persons who are blind or have other severe disabilities, and deletes from the Procurement List products previously furnished by such agencies.

EFFECTIVE DATE: January 5, 2003.

ADDRESSES: Committee for Purchase From People Who Are Blind or Severely Disabled, Jefferson Plaza 2, Suite 10800, 1421 Jefferson Davis Highway, Arlington, Virginia 22202-3259.

FOR FURTHER INFORMATION CONTACT: Sheryl D. Kennerly, (703) 603-7740.

SUPPLEMENTARY INFORMATION:

Additions

On May 10, September 20, October 4, October 11, and October 18, 2002, the Committee for Purchase From People Who Are Blind or Severely Disabled published notice (67 F.R. 31765, 59249, 62224, 63376, and 64351) of proposed additions to the Procurement List.

After consideration of the material presented to it concerning capability of qualified nonprofit agencies to provide the products and services and impact of the additions on the current or most recent contractors, the Committee has determined that the products and services listed below are suitable for procurement by the Federal Government under 41 U.S.C. 46-48c and 41 CFR 51-2.4. I certify that the following action will not have a significant impact on a substantial number of small entities. The major factors considered for this certification were:

1. The action will not result in any additional reporting, recordkeeping or other compliance requirements for small entities other than the small organizations that will furnish the products and services the Government.

2. The action will result in authorizing small entities to furnish the products and services to the Government.

3. There are no known regulatory alternatives which would accomplish the objectives of the Javits-Wagner-O'Day Act (41 U.S.C. 46-48c) in connection with the products and services proposed for addition to the Procurement List.

Accordingly, the following products and services are added to the Procurement List:

Products

Product/NSN: Award Certificate Binder, 7510-01-390-0712.

NPA: Dallas Lighthouse for the Blind, Inc., Dallas, Texas.

Contract Activity: Office Supplies & Paper Products Acquisition Center, New York, New York.

Product/NSN: Plate, Paper, 7350-01-263-6700, 7350-01-263-6701.

NPA: The Lighthouse for the Blind in New Orleans, New Orleans, Louisiana.

Contract Activity: GSA, General Products Center, Fort Worth, Texas.

Services

Service Type/Location: Base Supply Center, U.S. Army Signal Center, Fort Gordon, Georgia.

NPA: L.C. Industries For The Blind, Inc., Durham, North Carolina.

Contract Activity: U.S. Army Signal Center, Fort Gordon, Georgia.

Service Type/Location: Cleaning Services, Laguna Atascosa NWR, Rio Hondo, Texas.

NPA: Training, Rehabilitation & Development Institute, Inc., San Antonio, Texas.

Contract Activity: Department of Interior, New Mexico.

Service Type/Location: Grounds Maintenance, Army Research Laboratory (ARL), Adelphi, Maryland.

NPA: Melwood Horticultural Training Center, Upper Marlboro, Maryland.

Contract Activity: U.S. Army Robert Morris Acquisition Center (ARL), Adelphi, Maryland.

Service Type/Location: Recycling Service, Cape Cod National Seashore, Wellfleet, Massachusetts.

NPA: Nauset, Inc., Hyannis, Massachusetts.

Contract Activity: National Park Service, Wellfleet, Massachusetts.

Deletions

I certify that the following action will not have a significant impact on a substantial number of small entities. The major factors considered for this certification were:

1. The action will not result in any additional reporting, recordkeeping or other compliance requirements for small entities other than the small organizations that will furnish the products to the Government.

2. The action will result in authorizing small entities to furnish the products to the Government.

3. There are no known regulatory alternatives which would accomplish the objectives of the Javits-Wagner-O'Day Act (41 U.S.C. 46-48c) in connection with the products deleted from the Procurement List.

After consideration of the relevant matter presented, the committee has determined that the products listed below are no longer suitable for procurement by the Federal Government under 41 U.S.C. 46-48c and 41 CFR 51-2.4.

Accordingly, the following products are deleted from the Procurement List:

Products

Product/NSN: Cleaner, Water Soluble, 6840-01-367-2912, 7930-01-367-2910, 7930-01-367-2959, 7930-01-367-2961, 7930-01-367-2963.

NPA: Association for the Blind & Visually Impaired & Goodwill Industries of Greater Rochester, Rochester, New York.

Contract Activity: GSA, General Products Center, Fort Worth, Texas.

Sheryl D. Kennerly,
Director, Information Management.

[FR Doc. 02-30909 Filed 12-5-02; 8:45 am]

BILLING CODE 6353-01-P